DEPARTMENT OF ENERGY

Federal Energy Regulatory Commission

[Docket No. ER01-3022-003, et al.]

Cinergy Services, Inc., et al.; Electric Rate and Corporate Regulation Filings

May 16 2002.

The following filings have been made with the Commission. The filings are listed in ascending order within each docket classification.

1. Cinergy Services, Inc.

[Docket No. ER01-3022-003]

Take notice that on May 10, 2002, Cinergy Services, Inc., as agent for PSI Energy, Inc. (PSI), tendered for filing a Second Revised executed Interconnection Agreement by and between Cinergy Services, Inc. (Cinergy) and Mirant Sugar Creek, LLC (Mirant).

The Second Revised executed Interconnection Agreement between the parties provides for the interconnection of a generating station with the transmission system of PSI, a Cinergy utility operating company, and further defines the continuing responsibilities and obligations of the parties with respect thereto.

Consistent with the Commission's April 10, 2002 Order in this Docket, Cinergy requests an effective date of September 8, 2001 for the Second Revised executed Interconnection Agreement. Cinergy states that it has served a copy of its filing upon the Indiana Utility Regulatory Commission and Mirant.

Comment Date: May 31, 2002.

2. Select Energy New York, Inc.

[Docket No. ER02-556-001]

Take notice that on May 13, 2002, Select Energy New York, Inc. (SENY) tendered for filing with the Federal Energy Regulatory Commission (Commission), revisions to its Rate Schedule No. 1 in compliance with the Commission's letter order issued on February 11, 2002 in the above-captioned proceeding.

Comment Date: June 3, 2002.

3. Exelon Generation Company, LLC

[Docket No. ER02-1768-000]

Take notice that on May 8, 2002 Exelon Generation Company, LLC, tendered for filing a transaction agreement under its market-based rate wholesale power sales tariff under which it will provide Full Requirements Service to Fox Islands Electric Cooperative, Inc.

Comment Date: May 29, 2002.

4. New England Power Pool

[Docket No. ER02-1769-000]

Take notice that on May 8, 2002, the New England Power Pool (NEPOOL) Participants Committee filed for acceptance materials to permit NEPOOL to expand its membership to include the UBS AG, acting through its London Branch (UBS AG). The Participants Committee requests a May 8, 2002 effective date for the commencement of participation in NEPOOL by UBS AG.

The Participants Committee states that copies of these materials were sent to the New England state governors and regulatory commissions and the Participants in NEPOOL.

Comment Date: May 29, 2002.

5. Cinergy Services, Inc.

[Docket No. ER02-1770-000]

Take notice that on May 8, 2002, Cinergy Services, Inc. (Cinergy) on behalf of the Cincinnati Gas and Electric Company tendered for filing a Wholesale Market-Based Service Agreement under its Wholesale Market-Based Power Sales Standard Tariff, No. 9 -MB (the Tariff) entered into with Ameren Energy, Inc. as agent for and on behalf of Union Electric company d/b/a AmerenUE and Ameren Energy Generating Company.

Cinergy and Ameren Energy, Inc. are requesting an effective date of May 1, 2002.

Comment Date: May 29, 2002.

6. Cinergy Services, Inc.

[Docket No. ER02-1771-000]

Take notice that on May 8, 2002, Cinergy Services, Inc. (Cinergy) and Energy USA—TPC Corp. filed a Notice of Cancellation of Service Agreement No. 267, under Cinergy Operating Companies, FERC Market-Based Power Sales, FERC Electric Tariff Original Volume No. 7.

Cinergy requests an effective date of May 10, 2002.

Comment Date: May 29, 2002.

7. New York Independent System Operator, Inc.

[Docket No. ER02-1772-000]

Take notice that on May 8, 2002, the New York Independent System Operator, Inc. (NYISO) filed proposed revisions to its Market Administration and Control Area Services Tariff that would improve the ability of its Balancing Market Evaluation to call on potential providers of Thirty-Minute Reserves. The NYISO has requested a waiver of the Commission's usual sixty-day notice period so that the proposed revisions may become effective on May 30, 2002.

The NYISO has mailed a copy of this compliance filing to all persons that have executed Service Agreements under the NYISO's Market Administration and Control Area Services Tariff, to the New York State Public Service Commission, and to the electric utility regulatory agencies in New Jersey and Pennsylvania.

Comment Date: May 28, 2002.

8. Public Service Company of New Mexico

[Docket No. ER02-1773-000]

Take notice that on May 8, 2002, Public Service Company of New Mexico (PNM) submitted for filing an executed interconnection agreement, dated January 21, 2002, with Celerity Energy of New Mexico, LLC (Celerity), under the terms of PNM's Open Access Transmission Tariff. The interconnection agreement governs the interconnection of various back-up generators (facilities) located at various sites in the Albuquerque area and elsewhere in New Mexico, to the PNM distribution system, pursuant to which the energy generated by the facilities will be sold to PNM's Wholesale Merchant function (PNMM) for use as a peaking resource under a separate wholesale power sale agreement. PNM requests an effective date of January 21, 2002 for the interconnection agreement. PNM's filing is available for public inspection at its offices in Albuquerque, New Mexico.

Copies of the filing have been sent to Celerity, PNMM, the New Mexico Public Regulation Commission and the New Mexico Attorney General.

Comment Date: May 29, 2002.

9. Energy Services Inc.

[Docket No. ER02-1774-000]

Take notice that on May 8, 2002, Energy Services Inc. filed a Notice of Cancellation of Electric Service Rate Schedule No. 1 to be effective no later than July 1, 2002.

Comment Date: May 29, 2002.

10. Consumers Energy Company

[Docket No. OA96-77-001]

Take notice that on May 13, 2002, Consumers Energy Company (Consumers) tendered for filing with the Federal Energy Regulatory Commission (Commission), the following tariff sheets as part of its FERC Electric Tariff, Original Volume No. 1 in compliance with the Commission's March 27, 2002 order issued in the above proceeding:

First Revised Sheet Nos. 38, 58, 59, 75 through 81, 84 through 89 and 115 and Second Revised Sheet Nos. 38, 58, 59, 86, 88 and 115.

All of the First Revised Sheets except for Nos.87 and 89 are to become effective July 9, 1996; the rest of the sheets being filed are to become effective January 1, 1999. Copies of the filing were served upon those on the official service list in this proceeding.

Comment Date: June 12, 2002.

Standard Paragraph

E. Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's web site at http://www.ferc.gov using the “RIMS” link, select “Docket #” and follow the instructions (call 202-208-2222 for assistance). Protests and interventions may be filed electronically via the Internet in lieu of paper; see 18 CFR 385.2001(a)(1)(iii) and the instructions on the Commission's web site under the “e-Filing” link.

Magalie R. Salas,
Secretary.

[FR Doc. 02-12899 Filed 5-22-02; 8:45 am]

BILLING CODE 6717-01-P